DEPARTMENT OF COMMERCE

International Trade Administration

[A-570-122]

Certain Corrosion Inhibitors From the People's Republic of China: Final Results of Antidumping Duty Administrative Review, 2022-2023

AGENCY: Enforcement and Compliance, International Trade Administration, Department of Commerce.

SUMMARY: The U.S. Department of Commerce (Commerce) determines that companies in the People's Republic of China (China) made sales of subject merchandise at less than normal value (NV) during the period of review (POR) March 1, 2022, through February 28, 2023.

DATES: Applicable October 15, 2024.

FOR FURTHER INFORMATION CONTACT: Hermes Pinilla or Dusten Hom, AD/CVD Operations, Office I, U.S. Department of Commerce, 1401 Constitution Avenue NW, Washington, DC 20230; telephone: (202) 482-3477 and (202) 482-5075, respectively.

SUPPLEMENTARY INFORMATION:

Background

On April 3, 2024, Commerce published the Preliminary Results of this review in the Federal Register and invited interested parties to comment on those results.¹ For a complete description of the events that occurred since the Preliminary Results, see the Issues and Decision Memorandum.² Commerce conducted this administrative review in accordance with section 751 of the Tariff Act of 1930, as amended (the Act).

¹ See Certain Corrosion Inhibitors from the People's Republic of China: Preliminary Results of the Antidumping Duty Administrative Review; 2022-2023, 89 FR 20488 (April 3, 2024) (Preliminary Results), and accompanying Preliminary Decision Memorandum.

² See Memorandum, “Issues and Decision Memorandum for the Final Results of the 2022-2023 Administrative Review of the Antidumping Duty Order on Certain Corrosion Inhibitors from the People's Republic of China,” dated concurrently with, and hereby adopted by, this notice (Issues and Decision Memorandum).

Scope of the Order ³

³ See Certain Corrosion Inhibitors from the People's Republic of China: Antidumping Duty and Countervailing Duty Orders, 86 FR 14869 (March 19, 2021) (Order).

The products covered by the Order are certain corrosion inhibitors from China. A complete description of the scope of the Order is contained in the Issues and Decision Memorandum.

China-Wide Entity

As stated in the Preliminary Results, because no party requested a review of the China-wide entity in this review, the China-wide entity is not under review and the China-wide entity's rate, i.e., 241.02 percent, is not subject to change.⁴

⁴ See Preliminary Results, 89 FR at 22995.

Analysis of Comments Received

All issues raised in the case and rebuttal briefs by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received, we made no changes to the Preliminary Results.⁵ For a more detailed discussion of the issues raised by parties, see the Issues and Decision Memorandum.

⁵ See Preliminary Results.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, in the final results of review, we are assigning to the non-selected separate rate respondents an estimated weighted-average dumping margin based on the average of Anhui Trust Chem Co., Ltd.'s, and its affiliates (collectively Anhui), and Nantong Botao Chemical Co., Ltd.'s (Botao) rates weighted by their publicly available ranged U.S. sales values.

Final Results of the Review

Commerce determines that the following estimated weighted-average dumping margins exist for the period March 1, 2022, through February 28, 2023:

Exporter | Weighted-average dumping margin (percent)
Anhui Trust Chem Co., Ltd.; Jiangsu Trust Chem Co., Ltd.; Nanjing Trust Chem Co., Ltd | 11.58
Nantong Botao Chemical Co., Ltd | 8.27
Review-Specific Average Rate Applicable to the Following Companies
Gold Chemical Limited | 10.49
Jiangyin Delian Chemical Co., Ltd | 10.49
Kanghua Chemical Co., Ltd | 10.49

Disclosure

Because we have not modified our analysis to the Preliminary Results, we are adopting the Preliminary Results as the final results of this review. Consequently, there are no new calculations to disclose in accordance with 19 CFR 351.224(b) for the final results of review.

Assessment Rates

Pursuant to section 751(a)(2)(A) of the Act, and 19 CFR 351.212(b)(1), Commerce has determined, and U.S. Customs and Border Protections (CBP) shall assess, antidumping duties on all appropriate entries of subject merchandise in accordance with the final results of this review. Pursuant to 19 CFR 351.212(b)(1), for Anhui and Botao, we calculated importer-specific ad valorem duty assessment rates based on the ratio of the total amount of dumping calculated for each importer's examined sales and the total entered value of the sales in accordance with 19 CFR 351.212(b)(1). Where an importer-specific assessment rate is de minimis (i.e., less than 0.5 percent), the entries by that importer will be liquidated without regard to antidumping duties.

For all non-selected separate rate applicants subject to this review, we will instruct CBP to liquidate all entries of subject merchandise that entered the United States during the POR at the average of the rates calculated for Anhui and Botao as listed above. For entries of subject merchandise during the POR produced by Anhui and Botao for which they did not know their merchandise was destined for the United States, we intend to instruct CBP to liquidate such entries at the China-wide rate if there is no rate for the intermediate company or companies involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies subject to this review will be the rate established in these final results of the review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 241.02 percent); and (4) for all non-Chinese exporters of subject merchandise which have not received their own separate rate, the cash deposit rate will be the rate applicable to the Chinese exporter(s) that supplied that non-Chinese exporter.⁶ These cash deposit requirements, when imposed, shall remain in effect until further notice.

⁶ See Order, 86 FR at 14871.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of countervailing duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This determination is issued and published in accordance with sections 751(a)(1) and 777(i)(1) of the Act, and 19 CFR 351.221(b)(5).

Dated: October 4, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Change Since the Preliminary Results

V. Discussion of the Issues

Comment 1: Whether Commerce Should Revise the Preliminary Results To Select Romania as the Primary Surrogate Country

Comment 2: Whether Commerce Should Use the Labor Wages From the Turkish International Labor Organization (ILOSTAT) To Value Labor

Comment 3: Whether Commerce's Application of the Cohen's d Test to Botao's U.S. Sales Is Supported by Law

Comment 4: Whether Commerce Should Offset Botao's Calculated AD Margin by the Double Remedy Pass Through Subsidies Calculated in the Companion Countervailing Duty (CVD) Proceeding

VI. Recommendation

[FR Doc. 2024-23694 Filed 10-11-24; 8:45 am]

BILLING CODE 3510-DS-P